DEPARTMENT OF COMMERCE

National Oceanic and Atmospheric Administration

RIN 0648-XG005

North Pacific Fishery Management Council; Public Meeting

AGENCY: National Marine Fisheries Service (NMFS), National Oceanic and Atmospheric Administration (NOAA), Commerce.

ACTION: Notice of telephonic meeting.

SUMMARY: The North Pacific Fishery Management Council's Pacific Northwest Crab Industry Advisory Committee (PNCIAC) will meet in February, in Anchorage, AK.

DATES: The meeting will be held on Wednesday February 21, 2018, from 10 a.m. to 5 p.m. PST.

ADDRESSES: The meeting will be held telephonically. Telephone number is 1-800-920-7487, passcode is 7941749#.

Council address: North Pacific Fishery Management Council, 605 W. 4th Ave., Suite 306, Anchorage, AK 99501-2252; telephone: (907) 271-2809.

FOR FURTHER INFORMATION CONTACT: Sarah Marrinan, Council staff; telephone: (907) 271-2809, or Lance Farr, Committee Chair; telephone: (206) 669-7163.

SUPPLEMENTARY INFORMATION:

Agenda

Wednesday February 21, 2018

The Committee will discuss harvest strategies for BSS of harvesting dark shell crab, cost recovery of the observer program and Tanner Crab harvest strategy. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: February 1, 2018.
Tracey L. Thompson,
Acting Deputy Director, Office of Sustainable Fisheries, National Marine Fisheries Service.

[FR Doc. 2018-02372 Filed 2-6-18; 8:45 am]

BILLING CODE 3510-22-P